DEPARTMENT OF COMMERCE

National Oceanic and Atmospheric Administration

[I.D. 030304E]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Scientific and Statistical Committee in March, 2004 to consider actions affecting New England fisheries in the exclusive economic zone (EEZ). Recommendations from this group will be brought to the full Council for formal consideration and action, if appropriate.

DATES: The meeting will be held on March 26, 2004, at 9:30 a.m.

ADDRESSES: The meeting will be held at the Sheraton Inn Providence Airport, 1850 Post Road, Warwick, RI 02886; telephone: (401) 738-4000.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Scientific and Statistical Committee will address some issues relating to the Council's use of stock assessment advice and attempt to provide the Council with an understanding of why changes or differences in assessment advice may be very large as in the case of a recent Georges Bank yellowtail flounder assessment. Some other questions that the committee will consider are: (1) what kind of information should be collected and how should the Council direct funding and research to make stock assessments more reliable and robust; (2) how should the Council interpret and use virtual population analyses (VPAs), including weighting terminal year estimates of fishing mortality; (3) should other assessment models be used to compare VPA results; and (4) how should the Council handle retrospective patterns or errors in fishing mortality and biomass estimates?

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: March 4, 2004.
Peter H. Fricke,
Acting Director, Office of Sustainable Fisheries, National Marine Fisheries Service.

[FR Doc. 04-5699 Filed 3-11-04; 8:45 am]

BILLING CODE 3510-22-S